DEPARTMENT OF LABOR

Employment and Training Administration

[TA-W-85,664A]

Kelly Services Working On-Site Kraft Foods Group Global, Inc. Woburn, Massachusetts; Amended Certification Regarding Eligibility To Apply for Worker Adjustment Assistance

In accordance with Section 223 of the Trade Act of 1974, as amended (“Act”), 19 U.S.C. § 2273, the Department of Labor issued a Certification of Eligibility to Apply for Worker Adjustment Assistance on January 28, 2015, applicable to workers from Kraft Foods Group Global, Woburn, Massachusetts. The Department's Notice of Determination was published in the Federal Register on February 18, 2015 (80 FR 8695).

At the request of a State Workforce Official, the Department reviewed the certification for workers of the subject firm. The workers were engaged in the production of gelatin and other food ingredients.

The investigation confirmed that workers leased from Kelly Services were employed on-site at Kraft Foods Group Global, Woburn, Massachusetts. The Department has determined that these workers were sufficiently under the control of the subject firm to be considered leased workers.

Based on these findings, the Department is amending this certification to include workers leased from Kelly Services working on-site at Kraft Foods Group Global, Woburn, Massachusetts.

The amended notice applicable to TA-W-85,664 is hereby issued as follows:

All workers of Kraft Foods Group Global, Inc., Woburn, Massachusetts (TA-W-85,664) and Kelly Services, working on-site at Kraft Foods Group Global, Inc., Woburn, Massachusetts (TA-W-85,664A), who became totally or partially separated from employment on or after November 20, 2013 through January 28, 2017, are eligible to apply for adjustment assistance under Chapter 2 of Title II of the Trade Act of 1974, as amended, and are also eligible to apply for alternative trade adjustment assistance under Section 246 of the Trade Act of 1974, as amended.

Signed in Washington, DC, this 15th day of April, 2015.
Michael W. Jaffe,
Certifying Officer, Office of Trade Adjustment Assistance.

[FR Doc. 2015-12083 Filed 5-18-15; 8:45 am]

BILLING CODE 4510-FN-P